DEPARTMENT OF THE INTERIOR

Fish and Wildlife Service

[FWS-R9-IA-2009-N0095; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species or marine mammals. Both the Endangered Species Act and the Marine Mammal Protection Act require that we invite public comment on these permit applications.

DATES: Written data, comments or requests must be received by June 10, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Fred H. Gage, Salk Institute for Biological Studies, La Jolla, CA, PRT-206206

The applicant requests a permit to acquire from Coriell Cell Repositories, Camden, NJ, in interstate commerce skin cell lines from gorilla (Gorilla gorilla), chimpanzee (Pan troglodytes), bonobo (Pan paniscus), marmoset (Callimico goeldii), and orangutan (Pongo pygmaeus) for the purpose of scientific research. This notification covers activities to be conducted by the applicant over a 5-year period.

Applicant: Peter Praschag, Turtle Conservancy (Behler Chelonian Center), Ojai, CA, PRT-210683

The applicant requests a permit to import two live, captive-born River terrapins (Batagur baska), three live, captive-born Spotted pond turtles (Geoclemys hamiltonii), and four live, captive-held Indian sawback turtles (Pangshura tecta) from Austria, for the purpose of enhancement of the species through scientific research.

Applicant: Carly H. Vynne, University of Washington, Seattle, WA, PRT-196074

The applicant requests a permit to import biological samples from maned wolf (Chrysocyon brachyurus) collected in the wild in Brazil, incidental to other research activities, for the purpose of scientific research. This notification covers activities to be conducted by the applicant over a 5-year period.

Applicant: National Institutes of Health, Laboratory of Genomic Diversity, Frederick, MD, PRT-213734

The applicant requests a permit to export and re-import non-living museum specimens of endangered and threatened animals species that were previously accessioned into the applicant's collection for scientific research. This notification covers activities to be conducted by the applicant over a 5-year period.

Applicant: Omaha's Henry Doorly Zoo, Omaha, NE, PRT-196694

The applicant requests a permit to import one female captive-born snow leopard (Uncia uncia) from Jungle Cat World Wildlife Park, Ontario, Canada, for the purpose of enhancement of the species through captive propagation and conservation education.

Applicant: Minnesota Zoological Garden, Apple Valley, MN, PRT-197528

The applicant requests a permit to import one male captive-born amur leopard (Panthera pardus orientalis) from Zoologicka Zahrada Olomouc, Olomouc, Czech Republic, for the purpose of enhancement of the species through captive propagation and conservation education.

Applicant: Hawthorn Corporation, Grayslake, IL, PRT-062075, PRT-064075, PRT-068236, PRT-068237, PRT-068238, PRT-068349, PRT-088955, PRT-088956, PRT-088957, PRT-088958, PRT-088959, PRT-088960, PRT-119894, PRT-120319, PRT-213635, PRT-213636, PRT-213637

The applicant requests permits to export/re-export and re-import captive-born tigers (Panthera tigris) to worldwide locations for the purpose of enhancement of the species through conservation education. The permit numbers and animals are: New - 213635, Madras 2; 213636, Munia; 213637, Rani; Re-issue permits - 062075, Azara; 064075, Sheeba; 068236, Krisma; 068237, Spartacus; 068238, Dimitrios; 068349, Rook; 088955, Diego; 088956, Frieda; 088957, Shaman; 088958, Shiva; 088959, Natari; 088960, Darsha; 119894, Prince; 120319, King. This notification covers activities to be conducted by the applicant over a 3-year period and the import of any potential progeny born while overseas.

The following applicants request a permit to import the sport-hunted trophy of one male bontebok (Damaliscus pygargus pygargus) culled from a captive herd maintained under the management program of the Republic of South Africa, for the purpose of enhancement of the survival of the species.

Applicant: Behrooz Taher, Minneapolis, MN, PRT-208816

Applicant: Raymond L. Bunney, Mead, WA, PRT-211156

Applicant: Joseph M. Vargo, Arcadia, CA, PRT-213188

Marine Mammals

The public is invited to comment on the following application for a permit to conduct certain activities with marine mammals. The application was submitted to satisfy requirements of the Marine Mammal Protection Act of 1972, as amended (16 U.S.C. 1361 et seq.), and the regulations governing marine mammals (50 CFR Part 18). Submit your written data, comments, or requests for copies of the complete applications or requests for a public hearing on these applications to the address shown in ADDRESSES. If you request a hearing, give specific reasons why a hearing would be appropriate. The holding of such a hearing is at the discretion of the Director.

Applicant: National Marine Mammal Laboratory, Seattle, WA, PRT-212570

The applicant requests a permit for incidental harassment during aerial surveys of polar bear (Ursus maritimus) and walrus (Odobenus rosmarus) populations in the wild in Alaska for the purpose of scientific research. This notification covers activities to be conducted by the applicant over a 5-year period.

Concurrent with publishing this notice in the Federal Register, we are forwarding a copy of the above application to the Marine Mammal Commission and the Committee of Scientific Advisors for their review.

Dated: May 1, 2009
Lisa J. Lierheimer
Senior Permit Biologist, Branch of Permits, Division of Management Authority

[FR Doc. E9-10977 Filed 5-8-09; 8:45 am]

BILLING CODE 4310-55-S